DEPARTMENT OF COMMERCE

International Trade Administration

[A-823-808]

Amendment to the Agreement Between the United States Department of Commerce and the Government of Ukraine Suspending the Antidumping Investigation on Cut-to-Length Carbon Steel Plate from Ukraine

AGENCY: Import Administration, International Trade Administration, Department of Commerce.

ACTION: Notice of Amendment to the Agreement Between the United States Department of Commerce and the Government of Ukraine Suspending the Antidumping Investigation on Cut-to-Length Carbon Steel Plate from Ukraine.

SUMMARY: The Department of Commerce (the Department) and the Government of Ukraine (GOU) have signed an Amendment to the Agreement Suspending the Antidumping Investigation on Cut-Length Plate from Ukraine.

EFFECTIVE DATE: December 20, 2002

FOR FURTHER INFORMATION CONTACT: Patricia Tran or Robert James, AD/CVD Enforcement, Group III, Import Administration, International Trade Administration, U.S. Department of Commerce, 14th Street and Constitution Avenue, N.W., Washington, D.C. 20230, telephone: (202) 482-1121 or (202) 482-0649, respectively.

SUPPLEMENTARY INFORMATION:

Background

On November 19, 1997, the Department published in the Federal Register the text of an Agreement between the Department and the GOU suspending the antidumping investigation involving certain cut-to-length carbon steel plate (62 FR 61766). Pursuant to section XII of the Agreement, the export limits on the volume of subject merchandise expired on November 1, 2002. On November 12, 2002 the Department and the GOU initialed an Amendment to provide for the continuation of exports of cut-to-length plate from Ukraine to the United States until November 1, 2003. The Department subsequently released the Amendment to interested parties for comment. No interested party filed comments and, therefore, the Department and the GOU signed a final Amendment on December 20, 2002. The text of the final Amendment follows this notice.

Dated: December 20, 2002.
Faryar Shirzad,
Assistant Secretary for Import Administration.

[FR Doc. 03-526 Filed 1-9-03; 8:45 am]

BILLING CODE 3510-DS-S